NUCLEAR REGULATORY COMMISSION

[NRC-2012-0017]

Accurate NDE & Inspection, LLC; Confirmatory Order

In the Matter of Accurate NDE & Inspection, LLC Broussard, Louisiana | Docket: 150-00017, General License Pursuant to 10 CFR 150.20, EA-11-043
(Effective Immediately)

I

Accurate NDE & Inspection, LLC, (Accurate NDE or Licensee) is the holder of a general license issued by the U.S. Nuclear Regulatory Commission (NRC or Commission) pursuant to 10 CFR 150.20. This general license was granted to Accurate NDE at various times during calendar years between 2005 and 2011.

This Confirmatory Order is the result of an agreement reached during an alternative dispute resolution (ADR) mediation session conducted on September 28, 2011, in Baton Rouge, Louisiana.

II

On May 26, 2010, the NRC conducted a special inspection of licensed activities involving the use of byproduct material for industrial radiography conducted under a general license pursuant to the provisions of 10 CFR 150.20. The inspection was conducted in response to an event that occurred on March 15, 2010, involving the loss of a sealed source of iridium-192 while performing licensed activities in offshore Federal waters. On June 28, 2010, the NRC's Office of Investigations, Region IV, began an investigation (Case 4-2010-062) to determine if Accurate NDE, a State of Louisiana licensee, willfully failed to follow Louisiana license and NRC regulatory requirements. By letter dated July 28, 2011, the NRC transmitted the results of the inspection and investigation in NRC Inspection Report 150-00017/2010-002 and Investigation Report 4-2010-062 (ML11209B523) to Accurate NDE. Based on the results of the NRC inspection and investigation, the NRC determined that five apparent violations of NRC requirements had occurred. The apparent violations involved failures to: (1) Comply with the terms of an Agreement State license that requires the licensee to follow its operating procedures, which prohibit radiographers from attempting to retrieve a disconnected source without notifying the radiation safety officer (RSO); (2) maintain accurate information concerning personnel monitoring; (3) wear personnel dosimeters at all times while performing radiographic operations; (4) conduct a radiation survey when a radiographic exposure device is placed into storage; and (5) immediately report the loss of a sealed source of radiation. In addition, the NRC is concerned that willfulness may be associated with the apparent failure to follow the operating procedure that prohibits a radiographer from attempting to retrieve a disconnected radiography source without notifying the RSO, and the apparent failure to maintain accurate personnel monitoring information.

In the July 28 letter, the NRC informed Accurate NDE that the NRC was considering escalated enforcement action for the apparent violations. The NRC offered Accurate NDE the opportunity to request a predecisional enforcement conference or request ADR with the NRC in an attempt to resolve issues associated with this matter. In response, on August 9, 2011, Accurate NDE requested ADR to resolve this matter with the NRC.

On September 28, 2011, the NRC and Accurate NDE representatives met in an ADR session with a professional mediator, arranged through the Cornell University Institute on Conflict Resolution. ADR is a process in which a neutral mediator with no decision-making authority assists the parties in reaching an agreement on resolving any differences regarding the dispute. This Confirmatory Order is issued pursuant to the agreement reached during the ADR process.

III

In response to the NRC's offer, Accurate NDE requested use of the NRC ADR process to resolve differences it had with the NRC. During that ADR session, a preliminary settlement agreement was reached. The elements of the agreement consisted of the following:

The NRC recognizes the corrective actions that Accurate NDE has already implemented associated with the apparent violations, which include:

• Short-term corrective actions that included training provided to the radiography staff by the RSO on operating procedures specific to source disconnect events.

• Posting on the offshore platform that included a warning plaque, stating that a radioactive source was lost below the platform.

• Provided training to radiography staff during the annual refresher training conducted in October 2010 and the safety meeting conducted in June 2011.

Accurate NDE has also agreed to take the following corrective actions to address the apparent violations:

A. Accurate NDE will establish a comprehensive training program with the goal of deterring future willful violations by ensuring that its employees understand the importance that the NRC places on violations that are caused by deliberate misconduct, as well as violations caused by careless disregard. Therefore, in addition to discussing deliberate misconduct and careless disregard, the training will also stress the importance of knowing the procedural and regulatory requirements that apply to the work activities and knowing when to stop and verify what the correct action to take is before proceeding in the work activity. The training program will consist of training for all the current and newly hired employees performing NRC-licensed activities and provide for annual refresher training. Accurate NDE will complete the following activities for the training program:

1. Initial Training Requirements for Current Employees:

• Within 60 days of the issuance date of this Confirmatory Order, Accurate NDE will contract with an external contractor to provide training to all of its current employees who are engaged in NRC-licensed activities (up to and including the company president) on what is meant by willfulness and the potential enforcement sanctions that the NRC may take against employees who engage in deliberate misconduct.

• At least 15 days prior to the date that Accurate NDE intends to execute a contract with the external contractor, Accurate NDE will submit, for NRC review and approval, the resume of the contractor recommended to perform the training.

• At least 15 days prior to the start of the training, but no later than 30 days after executing the contract with the external training contractor, Accurate NDE will submit, for NRC review and approval, an outline of the topics to be covered during this training session.

• The initial training must be completed for all current employees, within 45 days of NRC's approval of the outline of course topics.

• Accurate NDE will assess the effectiveness of the training through written testing. Any employee not passing the test will receive remedial training and will be re-tested. Within 30 days of completing the initial training for all current employees, Accurate NDE will provide to the NRC (1) a letter stating that the training, as specified above, has been completed and (2) the results of the employee testing process.

2. Initial Training for New Employees and Annual Refresher Training:

• Within 120 days of the issuance date of this Confirmatory Order, Accurate NDE will submit for NRC review and approval, the Training Program and associated procedure(s) that describe the initial training that must be provided to new employees who will be conducting NRC-licensed activities and the annual refresher training that will be conducted for those employees who are performing NRC-licensed activities. The Accurate NDE President or RSO may conduct the initial training for new employees or the annual refresher training. The submittal to the NRC will include (1) an outline of the topics to be covered during the initial training and the refresher training sessions, (2) any procedure(s) that provide guidance on how the Training Program is conducted, and (3) details of the testing that will be conducted to evaluate the effectiveness of the training.

3. Training Program Requirements: The training for the current employees, new employees and annual refresher training will include the following elements:

• The training will include the elements of willfulness discussed in the NRC Enforcement Manual (Chapter 6) and will include some examples of enforcement actions the NRC has taken against individuals (which are publicly available on the NRC's Web site).

• The training must include the requirements contained in 10 CFR 30.9, “Completeness and Accuracy of Information”; 10 CFR 30.10, “Deliberate Misconduct”; and 10 CFR 30.7, “Employee Protection.”

• The training will include discussion of the willful issues discussed in the NRC's Notice of Violation and Proposed Imposition of Civil Penalty issued to Accurate NDE on March 20, 2007, and the willful issues discussed in NRC Inspection Report 150-00017/2010-002 issued to Accurate NDE on July 28, 2011.

• The training will include a discussion on the following topics: (1) The importance of following and complying with licensee procedures during off-normal events; (2) the importance of compliance with NRC regulations and licensee procedures; and (3) past radiography events that have resulted in overexposures to individuals, including the health effects of such overexposures.

• The training will include a discussion of the NRC's policy statement on safety culture and employees must be provided with a copy of the policy statement as contained in NUREG/BR-0500.

• Training will emphasize the requirements of what radiographers must do if required equipment does not function while they are conducting radiography in offshore waters (e.g., survey meter, pocket dosimeter, alarming rate meter, locks on the dark room).

4. Record Requirements:

• Records of the training and the test results will be maintained for 5 years and will be made available to the NRC, if requested.

B. Within 90 days of the issuance date of this Confirmatory Order, Accurate NDE will develop and submit for NRC review and approval, a procedure for conducting field audits of radiography crews performing work in offshore waters. When possible, the audits must be unannounced. The RSO or an appropriate company manager must conduct an audit of the job performance of each radiographer and radiographer assistant during an actual industrial radiographic operation in offshore waters, at intervals not to exceed 6 months, while there is work being performed under NRC jurisdiction. The procedure must contain the elements the audit will review. Records of audits and audit findings shall be maintained for 5 years and made available to the NRC, if requested.

C. Within 90 days of the issuance date of this Confirmatory Order, Accurate NDE will develop and submit for NRC review and approval a procedure for conducting radiography safely in offshore waters. The NRC will review the submitted procedure to ensure it contains the following elements:

1. A requirement that the radiography crew must ALWAYS contact the Accurate NDE RSO or a qualified individual designated by the Accurate NDE President, before attempting any source retrieval, no matter if the source is determined to be inside or outside of the guide tube;

2. A requirement to ensure that, for crews performing work in offshore waters, at least one radiographer who is qualified to perform source retrievals will be assigned to the crew and will be physically present while radiography is being conducted;

3. A provision that, after contacting the RSO or qualified individual and obtaining authorization, the radiographer who is qualified to perform source retrievals may perform source retrievals as directed by the RSO or a qualified individual designated by the Accurate NDE President;

4. A qualification program to be provided to train radiographers on source retrieval. Additionally, a description of some of the general methods, which qualified radiographers may use to perform source retrievals, will be included;

5. A requirement that a checklist be completed, which lists all equipment that must be taken to jobs in offshore waters, and that the equipment be functionally checked prior to leaving to perform work in offshore waters (e.g., survey meters, dosimetry, crank out cables, security devices);

D. Within 90 days of the issuance date of this Confirmatory Order, Accurate NDE will develop and submit for NRC review and approval, a procedure describing the training that will be conducted for the Accurate NDE RSO and any other manager designated to be on-call, providing details on the NRC notification and reporting requirements contained in 10 CFR 20.2201 and 20.2202, 10 CFR 30.50, and 10 CFR 34.101. The training must be conducted prior to any new individual assuming duties of the RSO or as manager on-call, and the training must be conducted within 30 days of NRC approval of the training procedure for the current RSO and any managers that may be on-call. This training may be conducted internally, as directed by the Accurate NDE President. Records of this training will be maintained for 5 years and made available to the NRC, if requested.

E. Beginning January 1, 2013, Accurate NDE shall submit to the NRC a copy of each procedure used when performing radiography activities within NRC jurisdiction, and each procedure used to train personnel who perform radiography activities within NRC jurisdiction. Starting in 2013, the procedures shall be submitted to the NRC annually by January 31st of each year for 5 years.

F. Accurate NDE shall pay a civil penalty in the amount of $13,500. This civil penalty shall be made in twelve equal payments of $1,125. The first payment shall be made within 30 days of the issuance date of this Confirmatory Order. The remaining 11 payments shall be made in equal payments each month thereafter.

G. After Accurate NDE receives the NRC reviewed and approved procedures specified in Items B through D, Accurate NDE shall implement and comply with the approved procedures when performing work under NRC jurisdiction. The approved procedures, and any subsequent procedural revisions, will remain binding upon Accurate NDE when performing work under NRC jurisdiction for a period of 10 years from the date of the Confirmatory Order.

The NRC will endeavor to complete all reviews of submitted procedures, training programs, and other documents in a timely manner. If the NRC does not approve a required submittal and Accurate NDE believes that the disapproval is unwarranted, Accurate NDE may address the disapproval with the Director, Division of Nuclear Materials Safety, U.S. NRC Region IV.

On December 7, 2011, Accurate NDE consented to issuing this Order with the commitments, as described in Section V below. Accurate NDE further agreed that this Order is to be effective upon issuance and that it has waived its right to a hearing.

IV

Since Accurate NDE has agreed to take additional actions to address NRC concerns, as set forth in Item III above, the NRC has concluded that its concerns can be resolved through issuance of this Confirmatory Order.

I find that Accurate NDE's commitments as set forth in Section V are acceptable and necessary and conclude that with these commitments the public health and safety are reasonably assured. In view of the foregoing, I have determined that public health and safety require that the Licensee's commitments be confirmed by this Order. Based on the above and Accurate NDE's consent, this Confirmatory Order is immediately effective upon issuance.

V

Accordingly, pursuant to Sections 81, 161b, 161i, 161o, 182 and 186 of the Atomic Energy Act of 1954, as amended, and the Commission's regulations in 10 CFR 2.202, 2.205, and 10 CFR Parts 20, 30, 34, and 150, it is hereby ordered, effective immediately, that:

A. Accurate NDE will establish a comprehensive training program with the goal of deterring future willful violations by ensuring that its employees understand the importance that the NRC places on violations that are caused by deliberate misconduct, as well as violations caused by careless disregard. Therefore, in addition to discussing deliberate misconduct and careless disregard, the training will also stress the importance of knowing the procedural and regulatory requirements that apply to the work activities and knowing when to stop and verify what the correct action to take is before proceeding in the work activity. The training program will consist of training for all the current and newly hired employees performing NRC-licensed activities and provide for annual refresher training. Accurate NDE will complete the following activities for the training program:

1. Initial Training Requirements for Current Employees:

a. Within 60 days of the issuance date of this Confirmatory Order, Accurate NDE will contract with an external contractor to provide training to all of its current employees who are engaged in NRC-licensed activities (up to and including the company president) on what is meant by willfulness and the potential enforcement sanctions that the NRC may take against employees who engage in deliberate misconduct.

b. At least 15 days prior to the date that Accurate NDE intends to execute a contract with the external contractor, Accurate NDE will submit, for NRC review and approval, the resume of the contractor recommended to perform the training.

c. At least 15 days prior to the start of the training, but no later than 30 days after executing the contract with the external training contractor, Accurate NDE will submit for NRC review and approval, an outline of the topics to be covered during this training session.

d. The initial training must be completed for all current employees, within 45 days of NRC's approval of the outline of course topics.

e. Accurate NDE will assess the effectiveness of the training through written testing. Any employee not passing the test will receive remedial training and will be retested. Within 30 days of completing the initial training for all current employees, Accurate NDE will provide to the NRC (1) a letter stating that the training, as specified above, has been completed and (2) the results of the employee testing process.

2. Initial Training for New Employees and Annual Refresher Training:

• Within 120 days of the issuance date of this Confirmatory Order, Accurate NDE will submit, for NRC review and approval, the Training Program and associated procedure(s) that describe the initial training that must be provided to new employees who will be conducting NRC-licensed activities and the annual refresher training that will be conducted for those employees who are performing NRC-licensed activities. The Accurate NDE President or RSO may conduct the initial training for new employees or the annual refresher training. The submittal to the NRC will include: (1) An outline of the topics to be covered during the initial training and the refresher training sessions, (2) any procedure(s) that provide guidance on how the Training Program is conducted, and (3) details of the testing that will be conducted to evaluate the effectiveness of the training.

3. Training Program Requirements: The training for current employees, new employees and annual refresher training will include the following elements:

a. The training will include the elements of willfulness discussed in the NRC Enforcement Manual (Chapter 6) and will include some examples of enforcement actions the NRC has taken against individuals (which are publicly available on the NRC's Web site).

b. The training must include the requirements contained in 10 CFR 30.9, “Completeness and Accuracy of Information”; 10 CFR 30.10, “Deliberate Misconduct”; and 10 CFR 30.7, “Employee Protection.”

c. The training will include discussion of the willful issues discussed in the NRC's Notice of Violation and Proposed Imposition of Civil Penalty issued to Accurate NDE on March 20, 2007, and the willful issues discussed in NRC Inspection Report 150-00017/2010-002 issued to Accurate NDE on July 28, 2011.

d. The training will include a discussion on the following topics: (1) The importance of following and complying with licensee procedures during off-normal events; (2) the importance of compliance with NRC regulations and licensee procedures; and (3) past radiography events that have resulted in overexposures to individuals, including the health effects of such overexposures.

e. The training will include a discussion of the NRC's policy statement on safety culture and employees must be provided with a copy of the policy statement as contained in NUREG/BR-0500.

f. Training will emphasize the requirements of what radiographers must do if required equipment does not function while they are conducting radiography in offshore waters (e.g., survey meter, pocket dosimeter, alarming rate meter, locks on the dark room).

4. Record Requirements:

• Records of the training and the test results will be maintained for 5 years and will be made available to the NRC, if requested.

B. Within 90 days of the issuance date of this Confirmatory Order, Accurate NDE will develop and submit for NRC review and approval, a procedure for conducting field audits of radiography crews working in offshore waters. When possible, the audits must be unannounced. The RSO or an appropriate company manager must conduct an audit of the job performance of each radiographer and radiographer assistant during an actual industrial radiographic operation in offshore waters, at intervals not to exceed 6 months, while there is work being performed under NRC jurisdiction. The procedure must contain the elements the audit will review. Records of audits and audit findings shall be maintained for 5 years and made available to the NRC, if requested.

C. Within 90 days of the issuance date of this Confirmatory Order, Accurate NDE will develop and submit for NRC review and approval a procedure for conducting radiography safely in offshore waters. The NRC will review the submitted procedure to ensure it contains the following elements:

1. A requirement that the radiography crew must ALWAYS contact the Accurate NDE RSO or a qualified individual designated by the Accurate NDE President, before attempting any source retrieval, no matter if the source is determined to be inside or outside of the guide tube;

2. A requirement to ensure that, ensure that, for crews performing work in offshore waters, at least one radiographer who is qualified to perform source retrievals will be assigned to the crew and will be physically present while radiography is being conducted;

3. A provision that, after contacting the RSO or qualified individual and obtaining authorization, the radiographer who is qualified to perform source retrievals, may perform source retrievals as directed by the RSO or a qualified individual designated by the Accurate NDE President;

4. A qualification program be provided to train radiographers on source retrieval. Additionally, a description of some of the general methods that qualified radiographers may use to perform source retrievals will be included;

5. A requirement that a checklist be completed, which lists all equipment that must be taken to jobs in offshore waters, and that the equipment be functionally checked prior to leaving to perform work in offshore waters (e.g., survey meters, dosimetry, crank out cables, security devices);

D. Within 90 days of the issuance date of this Confirmatory Order, Accurate NDE will develop and submit, for NRC review and approval, a procedure describing the training that will be conducted for the Accurate NDE RSO and any other manager designated to be on-call, providing details on the NRC notification and reporting requirements contained in 10 CFR 20.2201 and 20.2202, 10 CFR 30.50, and 10 CFR 34.101. The training must be conducted prior to any new individual assuming duties of the RSO or as manager on-call, and the training must be conducted within 30 days of NRC approval of the training procedure for the current RSO and any managers that may be on-call. This training may be conducted internally, as directed by the Accurate NDE President. Records of this training will be maintained for 5 years and made available to the NRC, if requested.

E. Beginning January 1, 2013, Accurate NDE shall submit to the NRC a copy of each procedure used when performing radiography activities within NRC jurisdiction, and each procedure used to train personnel who perform radiography activities within NRC jurisdiction. Starting in 2013, the procedures shall be submitted to the NRC annually by January 31st of each year for 5 years.

F. Accurate NDE shall pay a civil penalty in the amount of $13,500.00. This civil penalty shall be made in twelve equal payments of $1,125.00. The first payment shall be made within 30 days of the issuance date of this Confirmatory Order. The remaining 11 payments shall be made in equal payments each month thereafter.

G. After Accurate NDE receives the NRC-reviewed and approved procedures specified in Items B through D, Accurate NDE shall implement and comply with the approved procedures when performing work under NRC jurisdiction. The approved procedures, and any subsequent procedural revisions, will remain binding upon Accurate NDE when performing work under NRC jurisdiction for a period of 10 years from the issuance date of this Confirmatory Order.

The Regional Administrator, NRC Region IV, may, in writing, relax or rescind any of the above conditions upon demonstration by the Licensee of good cause. The NRC will endeavor to complete all reviews of submitted procedures, training programs, and other documents in a timely manner. If the NRC does not approve a required submittal and Accurate NDE believes that the disapproval is unwarranted, Accurate NDE may address the disapproval with the Director, Division of Nuclear Materials Safety, US NRC Region IV.

VI

Any person adversely affected by this Confirmatory Order, other than the Licensee, may request a hearing within 20 days of its publication in the Federal Register. Where good cause is shown, consideration will be given to extending the time to request a hearing. A request for extension of time must be made in writing to the Director, Office of Enforcement, U.S. Nuclear Regulatory Commission, Washington, DC 20555, and include a statement of good cause for the extension.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

If a person (other than the Licensee) requests a hearing, that person shall set forth with particularity the manner in which his interest is adversely affected by this Confirmatory Order and shall address the criteria set forth in 10 CFR 2.309(d) and (f).

If a hearing is requested by a person whose interest is adversely affected, the Commission will issue an order designating the time and place of any hearing. If a hearing is held, the issue to be considered at such hearing shall be whether this Confirmatory Order should be sustained.

In the absence of any request for hearing, or written approval of an extension of time in which to request a hearing, the provisions specified in Section V above shall be final 20 days from the date this Confirmatory Order is published in the Federal Register without further order or proceedings. If an extension of time for requesting a hearing has been approved, the provisions specified in Section V shall be final when the extension expires if a hearing request has not been received.

A Request for Hearing Shall Not Stay the Immediate Effectiveness of this Order.

For the Nuclear Regulatory Commission.
Dated this 19th day of December, 2011.
Elmo E. Collins,
Administrator, NRC Region IV.

[FR Doc. 2012-1502 Filed 1-24-12; 8:45 am]

BILLING CODE 7590-01-P